OFFICE OF PERSONNEL MANAGEMENT

Privacy Act of 1974: New System of Records

AGENCY: U.S. Office of Personnel Management (OPM).

ACTION: Notice of a new system of records.

SUMMARY: The Office of Personnel Management is proposing to add a new system of records to its inventory of record systems subject to the Privacy Act of 1974 (5 U.S.C. 552a), as amended. This action is necessary to meet the requirements of the Privacy Act to publish in the Federal Register notice of the existence and character of records maintained by the agency (5 U.S.C. 552a(e)(4)). The Integrity Assurance Officer Control Files (Internal 20) system of records has been operational since February 2005 without incident. Previously, OPM has relied on preexisting Privacy Act system of records notices for the collection and maintenance of these records. In an effort to increase transparency, OPM is publishing a separate notice for this system.

DATES: This addition will be effective without further notice on May 27, 2014, unless we receive comments that result in a contrary determination.

ADDRESSES: Send written comments to the Program Manager for the Freedom of Information and Privacy Act Office, Federal Investigative Services, U.S. Office of Personnel Management, 1137 Branchton Road, PO Box 618, Boyers, Pennsylvania 16018.

FOR FURTHER INFORMATION CONTACT: Program Manager, Freedom of Information and Privacy Act Office, FISSORNComments@opm.gov.

SUPPLEMENTARY INFORMATION: In accordance with the Privacy Act of 1974, 5 U.S.C. 552a, the Office of Personnel Management Federal Investigative Services (OPM-FIS) proposes to establish a new system of records titled Integrity Assurance Officer Control Files (Internal 20). This system of records allows OPM-FIS to collect, analyze, coordinate, and report investigations into allegations of misconduct or negligence by OPM Federal and contractor staff. The information in this system documents investigations into allegations or concerns of the following possible misconduct: (1) Fraud against the Government; (2) Theft of Government property; (3) Misuse of Government property and IT systems; and (4) Improper personal conduct. This information is reported to other OPM components or Federal agencies for criminal, administrative, or any other actions deemed appropriate. Additionally, the OPM is issuing a Notice of Proposed Rulemaking concurrent with this system of records notice elsewhere in the Federal Register in order to claim exemptions from certain requirements of the Privacy Act.

U.S. Office of Personnel Management.
Katherine Archuleta,
Director.

[FR Doc. 2014-08316 Filed 4-11-14; 8:45 am]

BILLING CODE 6325-53-P